ENVIRONMENTAL PROTECTION AGENCY

[ER-FRL-9059-4]

Environmental Impact Statements; Notice of Availability

Responsible Agency: Office of Federal Activities, General Information 202-564-5632 or https://www.epa.gov/nepa.

Weekly receipt of Environmental Impact Statements (EIS)

Filed November 5, 2021 10 a.m. EST Through November 15, 2021 10 a.m. EST

Pursuant to 40 CFR 1506.9

Notice: Section 309(a) of the Clean Air Act requires that EPA make public its comments on EISs issued by other Federal agencies. EPA's comment letters on EISs are available at: https://cdxnodengn.epa.gov/cdx-enepa-public/action/eis/search.

EIS No. 20210173, Draft Supplement, USACE, WA, Howard A. Hanson Dam Additional Water Storage Project, Section 902 Post Authorization Change Validation Study—Fish Passage, Draft Integrated Validation Report and Supplemental Environmental Impact Statement, Comment Period Ends: 01/04/2022, Contact: Nancy Gleason 206-764-6577.

EIS No. 20210174, Final, FERC, NY, Enhancement by Compression Project, Review Period Ends: 12/20/2021, Contact: Office of External Affairs 866-208-3372.

EIS No. 20210175, Final, WAPA, WY, Rail Tie Wind Project, Review Period Ends: 12/20/2021, Contact: Mark Wieringa 720-962-7448.

EIS No. 20210176, Draft, USFS, UT, Ashley National Forest Plan Revision, Comment Period Ends: 02/17/2022, Contact: Anastasia Allen 406-270-9241.

Dated: November 15, 2021.
Cindy S. Barger,
Director, NEPA Compliance Division, Office of Federal Activities.

[FR Doc. 2021-25263 Filed 11-18-21; 8:45 am]

BILLING CODE 6560-50-P